DEPARTMENT OF DEFENSE

Office of the Secretary

[Docket ID DoD-2009-HA-0174]

Proposed Collection; Comment Request

AGENCY: Office of the Assistant Secretary of Defense for Health Affairs, DoD.

ACTION: Notice.

SUMMARY: In compliance with Section 3506(c)(2)(A) of the Paperwork Reduction Act of 1995, the Office of the Assistant Secretary of Defense for Health Affairs announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 22, 2010.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to TRICARE Management Activity, Office of the Chief Information Officer, Portfolio Management Division, 5205 Leesburg Pike, Suite 1100, ATTN: Tina Beletsky, Fairfax, VA 22401-3206 or call TMA, Portfolio Management Division, at 703.681.8448 x1212.

Title; Associated Form; and OMB Number: Military Health System Information Systems User Satisfaction Survey; OMB Control Number 0720-TBD.

Needs and Uses: The information collection requirement is part of the Military Health System (MHS) Office of the Chief Information Officer (OCIO) Annual Performance Planning and Reporting to gather and report user satisfaction across 20 deployed MHS Information Systems using a standardized approach in a repeatable process for continued monitoring of user satisfaction using established quantifiable outcome based performance measures.

Affected Public: Department of Defense, Military Health Systems Contractors.

Annual Burden Hours: 480.

Number Of Respondents: 1,920 (480 respondents surveyed each quarter).

Responses Per Respondent: 1.

Average Burden Per Response: 15 minutes.

Frequency: Quarterly Survey.

SUPPLEMENTARY INFORMATION:

Summary of Information Collection

Respondents are Military Health System (MHS) contractors employed at Army, Navy, or Air Force Medical Treatment Facilities; Army, Navy or Air Force Command Headquarters; Army or Air Force Surgeon General Office; Navy Bureau of Medicine or TRICARE Management Activity Headquarters who use any one of the 20 deployed MHS information systems. As part of the Annual Performance Planning, the Office of the Chief Information Officer needs to gather user satisfaction data across 20 MHS information systems using standardized metrics for comparisons between the different systems/applications and for longitudinal comparison of each system/application over time. The user satisfaction data are reported on a quarterly basis. Although, the survey will be conducted quarterly, individual users are selected annually or less.

Dated: November 18, 2009.
Mitchell S. Bryman,
Alternate OSD Federal Register Liaison Officer, Department of Defense.

[FR Doc. E9-28028 Filed 11-20-09; 8:45 am]

BILLING CODE 5001-06-P